DEPARTMENT OF ENERGY

Federal Energy Regulatory Commission

[Docket No. IC12-2-000]

Commission Information Collection Activities; Comment Request

AGENCY: Federal Energy Regulatory Commission.

ACTION: Comment request.

SUMMARY: In compliance with the requirements of the Paperwork Reduction Act of 1995, 44 U.S.C. 3507(a)(1)(D), the Federal Energy Regulatory Commission (Commission or FERC) is submitting the information collection FERC-550, Oil Pipeline Rates: Tariff Filings, to the Office of Management and Budget (OMB) for review of the information collection requirements. Any interested person may file comments directly with OMB and should address a copy of those comments to the Commission as explained below. The Commission issued a Notice in the Federal Register (76 FR 76702, 12/08/2011) requesting public comments. FERC received no comments on the FERC-550 and is making this notation in its submittal to OMB.

DATES: Comments on the collection of information are due by March 19, 2012.

ADDRESSES: Comments filed with OMB, identified by the OMB Control No. 1902-0089, should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. IC12-2-000, by either of the following methods:

• eFiling at Commission's Web Site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Title: FERC-550, Oil Pipeline Rates: Tariff Filings.

OMB Control No.: 1902-0089.

Type of Request: Three-year extension of the FERC-550 information collection requirements with no changes to the reporting requirements.

Abstract: The Commission uses the information collected under the requirements of FERC-550 to implement the statutory provisions of Parts 1, 6, and 15 of the Interstate Commerce Act (ICA) (Pub. L. 337, 34 Stat. 584). Jurisdiction over oil pipelines as it relates to the establishment of valuations for pipelines was transferred from the Interstate Commerce Commission (ICC) to FERC, pursuant to sections 306 and 402 of the Department of Energy Organization Act (DOE Act), 42 U.S.C. 7155 and 7172, and Executive Order No. 12009, 42 FR 46267 (September 17, 1977).

18 CFR Parts 341-348 specifies the filing requirements for proposed oil pipeline rates. The data that oil pipelines file is the basis for Commission analyses of the rates they plan to charge to transport crude oil and petroleum products. The Commission uses its analyses: (1) To determine if the proposed charges result in just and reasonable rates for the oil pipeline's transportation services and (2) to help the Commission decide whether it should suspend, accept or reject the proposed rates.

Type of Respondents: Oil pipeline companies.

Estimate of Annual Burden ¹: The Commission estimates the total Public Reporting Burden for this information collection as:

¹ Burden is defined as the total time, effort, or financial resources expended by persons to generate, maintain, retain, or disclose or provide information to or for a Federal agency. For further explanation of what is included in the information collection burden, reference 5 Code of Federal Regulations 1320.3(b)(1).

FERC-550 (IC12-2-000): Oil Pipeline Rates: Tariff Filings
| Number of respondents | Number of responses per respondent | Total number of responses | Average burden hours per response | Estimated total annual burden
| (A) | (B) | (A) × (B) = (C) |  | (C) × (D)
Oil pipeline companies | 128 | 4 | 512 | 11 | 5,632

The total estimated annual cost burden to respondents is $385,499.24 [5,632 hours ÷ 2,080 ² hours/year = 2.70769 years * $142,372 ³ = $385,499.24].

² 2,080 hours = 40 hours/week * 52 weeks (1 year).

³ Average annual salary per employee in 2011.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: February 10, 2012.
Kimberly D. Bose,
Secretary.

[FR Doc. 2012-3663 Filed 2-15-12; 8:45 am]

BILLING CODE 6717-01-P